DEPARTMENT OF COMMERCE

National Oceanic and Atmospheric Administration

RIN 0648-XG645

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Committees.

DATES: The meetings will be held Monday, December 10, 2018 through Thursday, December 13, 2018. For agenda details, see SUPPLEMENTARY INFORMATION.

ADDRESSES: The meeting will be held at the Westin Annapolis, 100 Westgate Circle, Annapolis, MD 21401 telephone: (410) 972-4300.

Council address: Mid-Atlantic Fishery Management Council, 800 N State St., Suite 201, Dover, DE 19901; telephone: (302) 674-2331.

FOR FURTHER INFORMATION CONTACT: Christopher M. Moore, Ph.D. Executive Director, Mid-Atlantic Fishery Management Council; telephone: (302) 526-5255. The Council's website, www.mafmc.org also has details on the meeting location, proposed agenda, webinar listen-in access, and briefing materials.

SUPPLEMENTARY INFORMATION: The following items are on the agenda, though agenda items may be addressed out of order (changes will be noted on the Council's website when possible.)

Monday, December 10, 2018

Executive Committee—CLOSED MEETING

Ricks E Savage Award

Risk Policy Framework

Final results of the Summer Flounder Economic Management Strategy Evaluation (MSE) and discuss next steps.

Law Enforcement Workshop Report

Report on Law Enforcement/For-Hire Workshop (November 13-14, 2018) and review workshop summary and develop recommendations on further actions.

Tuesday, December 11, 2018

Discussion of Potential 2019 Mid-Year Revisions for Summer Flounder, Scup, and Black Sea Bass

Discuss timeline for revising 2019 summer flounder specifications and discuss potential for mid-year revisions to the 2019 black sea bass and scup specifications, including timing of the 2019 operational assessment.

Black Sea Bass 2019 Recreational Specifications

Review recent fishery performance, Monitoring Committee and Advisory Panel recommendations and adopt recommendations for 2019 federal waters recreational management measures.

Scup 2019 Recreational Specifications

Review recent fishery performance, Monitoring Committee and Advisory Panel recommendations and adopt recommendations for 2019 federal waters recreational management measures.

Summer Flounder 2019 Recreational Specifications

Review recent fishery performance, Monitoring Committee and Advisory Panel recommendations and discuss timeline for developing 2019 recreational measures in early 2019 based on benchmark assessment results.

Summer Flounder, Scup, and Black Sea Bass Framework and Addendum XXXI on Conservation Equivalency, Block Island Sound Transit, and Slot Limits

Take final action.

Board-Only Meeting on Addendum XXXII for Summer Flounder and Black Sea Bass Recreational Management

Take final action.

Wednesday, December 12, 2018

Summer Flounder Commercial Issues and Goals and Objectives Amendment

Take final action.

Revised Stock Assessment Process

Presentation on Summer Flounder F-Based Management MSE

Review preliminary results of MSE to explore F-based recreational management.

Black Sea Bass Amendment and Review of Progress on Commission's Strategic Plan for Black Sea Bass

Discuss initiation of an amendment including identification of issues to consider.

Research Steering Committee Report

Report on Research Steering Committee Webinar (November 27, 2018) and discuss recommendations from the meeting.

Thursday, December 13, 2018

Atlantic Large Whale Take Reduction Team Report 2019 Implementation Plan

Review and approve 2019 Implementation Plan.

Business Session

Committee Reports (SSC and Executive Committee); Executive Director's Report; Organization Reports; and, Liaison Reports.

Continuing and New Business

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aid should be directed to M. Jan Saunders, (302) 526-5251, at least 5 days prior to the meeting date.

Dated: November 20, 2018.
Rey Israel Marquez,
Acting Deputy Director, Office of Sustainable Fisheries, National Marine Fisheries Service.

[FR Doc. 2018-25670 Filed 11-23-18; 8:45 am]

BILLING CODE 3510-22-P